DEPARTMENT OF AGRICULTURE

Commodity Credit Corporation

Sunshine Act Meeting

TIME AND DATE: 2 p.m., October 10, 2000.

PLACE: Room 104-A, Jamie L. Whitten Building, U.S. Department of Agriculture, Washington, D.C.

STATUS: Open.

MATTERS TO BE CONSIDERED: 1. Approval of the Minutes of the Open Meeting of May 17, 1999.

2. Memorandum re: Update of Commodity Credit Corporation (CCC)-Owned Inventory.

3. Memorandum re: Settlement Actions Report.

4. Memorandum re: CCC Stocks Available for Donation Overseas Under Section 416(b) of the Agricultural Act of 1949, as Amended, for Fiscal Years 1998, 1999, and 2000.

5. Docket A-POL-98-007, Rev. 1, re: Commodity Credit Corporation Claims Policy.

CONTACT PERSON FOR MORE INFORMATION: Juanita B. Daniels, Acting Secretary, Commodity Credit Corporation, Stop 0571, U.S. Department of Agriculture, 1400 Independence Avenue SW, Washington, D.C. 20250-0571.

Dated: September 28, 2000.
Juanita B. Daniels,
Acting Secretary, Commodity Credit Corporation.

[FR Doc. 00-25420 Filed 9-28-00; 4:49 pm]

BILLING CODE 3410-05-U